SECURITIES AND EXCHANGE COMMISSION

[File No. 500-1]

Global Vision Holdings, Inc.; Order of Suspension of Trading

November 25, 2002.

It appears to the Securities and Exchange Commission that there is a lack of current and accurate information concerning the securities of Global Vision Holdings, Inc. (“GVHI”) because of questions regarding the accuracy and adequacy of information concerning the business background of an officer of GVHI, the business prospects of GVHI, and the market for the securities of GVHI.

The Commission is of the opinion that the public interest and the protection of investors require a suspension of trading in the securities of the above-listed company.

Therefore, it is ordered, pursuant to Section 12(k) of the Securities Exchange Act of 1934, that trading in the above-listed company is suspended for the period from 9:30 a.m. EST, on Monday, November 25, 2002 through 11:59 p.m. EST, on Monday, December 9, 2002.

By the Commission.
Margaret H. McFarland,
Deputy Secretary.

[FR Doc. 02-30251 Filed 11-25-02; 12:57 pm]

BILLING CODE 8010-01-P